DEPARTMENT OF VETERANS AFFAIRS

[OMB Control No. 2900-0495]

Agency Information Collection Activity Under OMB Review: Martial Status Questionnaire

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0495.

FOR FURTHER INFORMATION CONTACT: Maribel Aponte, Office of Enterprise and Integration, Data Governance Analytics (008), 1717 H Street NW, Washington, DC 20006, (202) 266-4688 or email maribel.aponte@va.gov. Please refer to “OMB Control No. 2900-0495” in any correspondence.

SUPPLEMENTARY INFORMATION:

Authority: Public Law 116-315, 38 U.S.C. 101(3) and 38 U.S.C. 103.

Title: Marital Status Questionnaire (VA Form 21P-0537).

OMB Control Number: 2900-0495.

Type of Review: Revision of a currently approved collection.

Abstract: VA Form 21P-0537, Marital Status Questionnaire, is used to confirm the marital status of a surviving spouse in receipt of Dependency and Indemnity Compensation (DIC) benefits. If a surviving spouse remarries, he or she is no longer entitled to DIC unless the marriage began after age 55 or has been terminated. This is a revision. The respondent burden has decreased due to the estimated number of receivables averaged over the past year, no substantive changes have been made to the form. The estimated number of receivables has been estimated from receivables through mail automation as well as data pulled from a document count of VA Form 21P-0537. An agency may not conduct or sponsor, and a person is not required to respond to a collection of information unless it displays a currently valid OMB control number. The Federal Register Notice with a 60-day comment period soliciting comments on this collection of information was published at 87 FR 18075 on March 29, 2022, pages 18075 and 18076.

Affected Public: Individuals and households.

Estimated Annual Burden: 229.67 hours.

Estimated Average Burden per Respondent: 5 minutes.

Frequency of Response: On occasion.

Estimated Number of Respondents: 2,756 per year.

By direction of the Secretary.
Maribel Aponte,
VA PRA Clearance Officer, Office of Enterprise and Integration, Data Governance Analytics, Department of Veterans Affairs.

[FR Doc. 2022-12049 Filed 6-3-22; 8:45 am]

BILLING CODE 8320-01-P